DEPARTMENT OF ENERGY

Energy Conservation Program: Data Collection and Estimated Future Unit Sales of Five Lamp Types

AGENCY: Office of Energy Efficiency and Renewable Energy, Department of Energy.

ACTION: Notice of data availability.

SUMMARY: The Department of Energy (DOE) is informing the public of its collection of historical data and creation of spreadsheet models to provide a benchmark estimate future unit sales of five lamp types (i.e., rough service lamps, vibration service lamps, 3-way incandescent lamps, 2,601-3,300 lumen general service incandescent lamps, and shatter resistant lamps). Relating to this activity, DOE prepared and is making available on its Web site: (1) a report that summarizes the methodology and presents the benchmark estimate of future unit sales for the five lamp types and (2) the spreadsheet model used to generate that estimate based on their respective historical annual growth rates. Both the report and the spreadsheet are available at: http://www1.eere.energy.gov/buildings/appliance_standards/residential/five_lamp_types.html.

FOR FURTHER INFORMATION CONTACT: Send requests for additional information to Mrs. Linda Graves, U.S. Department of Energy, Office of Energy Efficiency and Renewable Energy, Building Technologies, EE-2J, 1000 Independence Avenue, SW., Washington, DC 20585-0121, (202) 586-1851. E-mail: Linda.Graves@ee.doe.gov. In the Office of General Counsel, contact Ms. Francine Pinto, U.S. Department of Energy, Office of General Counsel, GC-72, 1000 Independence Avenue, SW., Washington, DC 20585, (202) 586-9507. E-mail: Francine.Pinto@hq.doe.gov.

Discussion

Section 321(a)(3)(B) of Energy Independence and Security Act of 2007 (EISA 2007) amends section 325(l) of EPCA by adding paragraph (4)(B) that generally directs DOE in consultation with the National Electrical Manufacturers Association (NEMA) to (1) collect historical unit sales ¹ data for each of the five lamp types (i.e., rough service lamps, vibration service lamps, 3-way incandescent lamps, 2,601-3,300 lumen general service incandescent lamps, and shatter-resistant lamps) and (2) construct a spreadsheet model for each of the five lamp types based on coincident economic indicators that closely match the historical annual growth rates of each lamp type to provide a neutral comparison benchmark estimate of future unit sales. (42 U.S.C. 6295(l)(4)(B).) These estimates of future unit sales for each of the five lamp types constitute a neutral comparison benchmark against which DOE will later compare actual unit sales data starting with calendar 2010. (42 U.S.C. 6295(l)(4)(C).)

¹ In this analysis, DOE uses (and intends to continue to use) manufacturer shipments as a surrogate for unit sales. This assumption presumes that retailer inventories remain constant from year to year. DOE believes this is a reasonable assumption because the markets for these five lamp types have existed for many years, enabling manufacturers and retailers to establish appropriate inventory levels that reflect market demand. Furthermore, in the long-run, unit sales could not increase in any one year without manufacturer shipments increasing either that year or the following one. In either case, increasing unit sales must eventually result in increasing manufacturer shipments.

DOE worked in consultation with NEMA to collect actual data for unit sales of each of the five lamp types for calendar years 1990 through 2006. DOE also constructed a model for each type of lamp that is based on the historical annual growth rate of the lamps which provides a benchmark estimate of future unit sales for each of the five lamp types. DOE has posted on its Web page ² (1) a report that summarizes the methodology and presents the benchmark estimate of future unit sales and (2) a spreadsheet model that was used to estimate future unit sales for the five lamp types based on the historical annual growth rates for each.

² The address for the Web page is given in the SUMMARY portion of this Notice.

The report defines each of the five lamp types, presents the historical data that was provided by NEMA, discusses the methodology followed in analyzing that data to generate the estimated future unit sales, and presents the results for the five lamp types. The report also discusses the regulatory provisions in the statute for each of the five lamp types that would be enacted if the unit sales of one of these lamp types exceeded the benchmark estimate in any given year by 100 percent (i.e., double the benchmark estimate level).

The spreadsheet contains the five models constructed for each of the lamp types, in compliance with section 325(l)(4)(B)(ii) of EPCA. These models closely match the historical annual growth rate of each lamp type and generate an estimate of future unit sales based on those trends. This future unit sales estimate constitutes the neutral comparison benchmark against which DOE will later conduct comparisons.

Issued in Washington, DC, on December 18, 2008.
John F. Mizroch,
Acting Assistant Secretary, Energy Efficiency and Renewable Energy.

[FR Doc. E8-30608 Filed 12-23-08; 8:45 am]

BILLING CODE 6450-01-P